ENVIRONMENTAL PROTECTION AGENCY

[FRL-8236-3]

Announcement of the Board of Trustees for the National Environmental Education and Training Foundation, Inc

Summary: The National Environmental Education and Training Foundation was created by Section 10 of Public Law #101-619, the National Environmental Education Act of 1990. It is a private 501 (c)(3) non-profit organization established to promote and support education and training as necessary tools to further environmental protection and sustainable, environmentally sound development. It provides the common ground upon which leaders from business and industry, all levels of government, public interest groups, and others can work cooperatively to expand the reach of environmental education and training programs beyond the traditional classroom. The Foundation supports a grant program that promotes innovative environmental education and training programs; it also develops partnerships with government and other organizations to administer projects that promote the development of an environmentally literal public.

The Administrator of the U.S. Environmental Protection Agency, as required by the terms of the Act, announces the following appointment to the National Environmental Education and Training Foundation, Inc. Board of Trustees. The appointees are Philippe Cousteau, Co-Founder and Chief Executive Officer of EarthEcho International and Trish Silber, President, Aliniad Consulting Partners, Inc. The appointees will join the current Board members which include: J.L. Armstrong, National Manager, Diversity Development, Toyota Motor Sales, USA

• Raymond Ban, Executive Vice President, Meteorology Science and Strategy, The Weather Channel, Inc.

• Holly Cannon, Principal of the Law Firm Beveridge&Diamond.

• Arthur Gibson, Vice President, Environment, Health&Safety, The Home Depot, Inc.

• Dorothy McSweeny, (NEETF Vice Chair), Chair, DC Commission on the Arts and Humanities.

• Honorable William Sessions, former Director of the Federal Bureau of Investigation.

• Bradley Smith, Dean, Huxley College of the Environment, Western Washington University.

• Kenneth Strassner, Vice President, Global Environment, Safety, Regulatory and Scientific Affairs, Kimberly-Clark Corporation.

Additional Considerations: Great care has been taken to assure that these new appointees not only have the highest degree of expertise and commitment, but also brings to the Board diverse points of view relating to environmental education and training. This appointment shall be for two consecutive four year terms.

FOR FURTHER INFORMATION CONTACT: C. Michael Baker, Acting Director, Environmental Education Division, Office of Children's Health Protection and Environmental Education (1704A) U.S. EPA 1200 Pennsylvania Ave., NW., Washington, DC 20460.

Dated: October 19, 2006.
Stephen L. Johnson,
Administrator.

BIOS of New Members

Philippe Cousteau

Co-Founder and Chief Executive Officer Earthecho International

Philippe Cousteau and his sister Alexander are the third generation of Cousteau to dedicate their lives to exploring and explaining the natural world. Philippe continue the work of his late father, Philippe Sr., and grandfather, Jacques-Yves, by working to unite the pursuit of science, the conservation of nature, and the education of a public eager to learn about the world around us. He founded EarthEcho International with his sister and his mother, Jan Cousteau, to work towards these goals, with a particular focus on young people as the future caretakers of the planet. He serves as President of EarthEcho and is responsible for directing and managing its extensive worldwide operations.

Philippe has performed scholarly field research in Papua new Guinea with Dr. Eugenie Clark and in Bonaire in the Antilles with George Buckley. He has authored articles for numerous magazines, including National Geographic, Sport Diver Magazine, Dive Trade International, Capture Life, and Caribbean Adventure, among others. He has lectured at Harvard University, Miami Dade College, Truckee College and numerous other institutions, and has appeared on television and radio programs for his expertise. He has written, directed, and produced public service announcements and documentary films, and is President and Founder of Thalassa Ventures Corporation, a media development and consulting company. Philippe also serves on the Board of Directors of the Blue Frontier Foundation, the Honorary Board of the Everglades Foundation, the Advisory Board for the Global Peace Film Festival, the Advisory Board for the Algalita Marine Research Foundation, the Advisory Council for the Ocean Energy Council and the Advisory Council for the Smithsonian Institution's Ocean Science Initiative. He is not affiliated with the Cousteau Society.

Trish Silber

President, Aliniad Consulting Partners, Inc

Trish Silber is president of Aliniad Consulting Partners, Inc., a Washington D.C.-based consulting firm focused on leadership, team, and organization development. She works with a select group of clients in three key areas:

• Coaching executives (groups and individuals).

• Leading strategic planning, culture exchange, and/or organization redesign efforts.

• Designing and leading corporate learning in the areas of leadership, productive reasoning and communication skills.

Trish has 20 years of experience working with organizations facing rapid changes in technology markets, strategy, and leadership. As a result, she is able to quickly build a candid and trusting coaching context within which executives can address their most critical challenges. Clients report that she provides potent consulting that is flexible in methodology, practical in application, and judicious in use of time.

Organizations frequently contact Trish to facilitate groups facing high-risk and contentious situations, particularly when multiple stakeholders are involved, such as competing business unites or community groups. She helps groups convert seemingly intractable conflicts into productive conversations, from which high quality, timely and actionable decisions are made. Prior to forming Aliniad, Trish was a senior partner with Catalyst Consulting Team Inc., a national consulting firm known for its work in strategic alignment, leadership development, and experiential learning. Trish was with Catalyst for 14 years, and served on its Board of Directors from 1996 through 2002. Prior to joining Catalyst, she held several internal human resources positions at Apple Computer. She earned a masters degree in business from the University of Santa Clara, a bachelor's degree in behavioral psychology from Connecticut College, and has done graduate work in organizational behavior at George Washington University. She has completed numerous certificate programs in the fields of human resources, organizational development, and coaching. For example, she is certified as an advanced mediator through the Center for Dispute Settlement, and in coaching through Newfield Network's CPPM and graduate programs. Trish is also a member of the faculty for George Washington University's graduate program on leadership coaching.

[FR Doc. E6-18262 Filed 10-30-06; 8:45 am]

BILLING CODE 6560-50-P